DEPARTMENT OF LABOR

Employment and Training Administration

[NAFTA-03888]

Lear Corp., United Technologies, Automotive, Inc.; Mold and Die Shop, El Paso, TX; Amended Certification Regarding Eligibility To Apply for NAFTA-Transitional Adjustment Assistance

In accordance with Section 250(A), Subchapter D, Chapter 2, Title II, of the Trade Act of 1974 (19 USC 2273), the Department of Labor issued a Certification for NAFTA Transitional Adjustment Assistance on July 11, 2000, applicable to workers of Lear Corp., Mold and Die Shop, El Paso, Texas. The notice was published in the Federal Register on July 24, 2000 (65 FR 45621).

At the request of the State agency, the Department reviewed the certification for workers of the subject firm. The workers inspected, modified and assembled dies manufactured by outside vendors but used by the subject firm for crimping wire terminals. New information received from the company shows that on May 4, 1999, Lear Corp. purchased United Technologies Automotive, Inc. Information also shows that workers separated from employment at Lear Corp., Mold and Die Shop had their wages reported under a separate unemployment insurance (UI) tax account for United Technologies Automotive, Inc.

Accordingly, the Department is amending the certification to properly reflect this matter.

The intent of the Department's certification is to include all workers of Lear Corp., Mold and Die Shop, El Paso, Texas who were adversely affected by the shift of production to Mexico.

The amended notice applicable to NAFTA-03888 is hereby issued as follows:

All workers of Lear Corp., United Technologies Automotive, Inc., Mold and Die Shop, El Paso, Texas who became totally or partially separated from employment on or after April 21, 1999 through July 11, 2002 are eligible to apply for NAFTA-TAA under Section 250 of the Trade Act of 1974.

Signed at Washington, D.C. this 13th day of September, 2000.
Edward A. Tomchick,
Director, Division of Trade Adjustment Assistance.

[FR Doc. 00-24155 Filed 9-19-00; 8:45 am]

BILLING CODE 4510-30-M